DEPARTMENT OF LABOR

Mine Safety and Health Administration

Petitions for Modification

The following parties have filed petitions to modify the application of existing safety standards under section 101(c) of the Federal Mine Safety and Health Act of 1977.

1. Pine Ridge Coal Company

[Docket No. M-2001-122-C]

Pine Ridge Coal Company, 1970 Barrett Court, P.O. Box 1990, Henderson, Kentucky 42420 has filed a petition to modify the application of 30 CFR 75.503 (permissible electric face equipment; maintenance) to its Big Mountain No. 16 Mine (I.D. No. 46-07908) located in Boone County, West Virginia. The petitioner proposes to use trailing cables not to exceed 900 feet to supply its shuttle cars, roof bolters, and mobile roof supports. The petitioner states that the trailing cables for the shuttle cars would not be smaller than No. 6 AWG, for mobile roof supports not smaller than No. 4 AWG, and for roof bolters not smaller than No. 2 AWG. The petitioner has outlined in this petition specific procedures that would be used when its alternative method is implemented. The petitioner asserts that the proposed alternative method would provide at least the same measure of protection as the existing standard.

2. Warrior Coal, LLC

[Docket No. M-2001-123-C]

Warrior Coal, LLC, P.O. Box Drawer 1210, Madisonville, Kentucky 42431 has filed a petition to modify the application of 30 CFR 75.1103-4(a) (automatic fire sensors and warning device systems; installation; minimum requirements) to its Cardinal Mine (I.D. No. 15-17216) located in Hopkins County, Kentucky. The petitioner proposes to install a carbon monoxide detection system that identifies the location of sensors in lieu of identifying belt flights. The petitioner asserts that the proposed alternative method would provide at least the same measure of protection as the existing standard.

3. Warrior Coal, LLC

[Docket No. M-2001-124-C]

Warrior Coal, LLC, P.O. Box Drawer 1210, Madisonville, Kentucky 42431 has filed a petition to modify the application of 30 CFR 75.350 (air courses and belt haulage entries) to its Cardinal Mine (I.D. No. 15-17216) located in Hopkins County, Kentucky. The petitioner proposes to use air coursed through conveyor belt entries to ventilate working places. The petitioner proposes to install and maintain a carbon monoxide monitoring system as an early warning fire detection system in all belt entries used to course intake air to a working place. The petitioner asserts that the proposed alternative method would provide at least the same measure of protection as the existing standard.

4. Oxbow Mining, L.L.C.

[Docket No. M-2001-125-C]

Oxbow Mining, L.L.C., P.O. Box 535, 3737 Highway 133, Somerset, Colorado 81434 has filed a petition to modify the application of 30 CFR 75.701 (grounding metallic frames, casings, and other enclosures of electric equipment) to its Elk Creek Mine (I.D. No. 05-04674) located in Gunnison County, Colorado. The petitioner proposes to use a 480-volt, wye connected, 260 KW portable diesel generator for utility power and to move and operate electrically powered mobile equipment and stationary equipment throughout the mine. The petitioner states that the 480-volt output uses a 300 KVA autom-transformer to develop 995-volts, and the generator would also be used to perform other minor activities in the mine. The petitioner asserts that the proposed alternative method would provide at least the same measure of protection as the existing standard.

5. Oxbow Mining, L.L.C.

[Docket No. M-2001-126-C]

Oxbow Mining, L.L.C., P.O. Box 535, 3737 Highway 133, Somerset, Colorado 81434 has filed a petition to modify the application of 30 CFR 75.901 (protection of low- and medium-voltage three-phase circuits used underground) to its Elk Creek Mine (I.D. No. 05-04674) located in Gunnison County, Colorado. The petitioner proposes to use a 260KW, 480-volt portable diesel generator to move and operate electrically powered mobile equipment and stationary equipment throughout the mine. The petitioner states that the 480-volt output uses a 300 KVA auto-transformer to develop 995-volts, and the generator would also be used to perform other minor activities in the mine. The petitioner asserts that the proposed alternative method would provide at least the same measure of protection as the existing standard.

Requests for Comments

Persons interested in these petitions are encouraged to submit comments via e-mail to “comments@msha.gov,” or on a computer disk along with an original hard copy to the Office of standards, Regulations, and Variances, Mine Safety and Health Administration, 4015 Wilson Boulevard, Room 627, Arlington, Virginia 22203. All comments must be postmarked or received in that office on or before March 15, 2002. Copies of these petitions are available for inspection at that address.

Dated at Arlington, Virginia this 7th day of January 2002.
Marvin W. Nichols, Jr.,
Director, Office of Standards, Regulations, and Variances.

[FR Doc. 02-3516 Filed 2-12-02; 8:45 am]

BILLING CODE 4510-43-M